DEPARTMENT OF AGRICULTURE

Forest Service

Tuolumne County Resource Advisory Committee

AGENCY: Forest Service, USDA.

ACTION: Notice of meeting.

SUMMARY: The Tuolumne County Resource Advisory Committee will meet on June 16, 2003 at the City of Sonora Fire Department, in Sonora, California. The purpose of the meeting is to review Forest Service project submittals in detail, based on presentations made by project proponents, and follow-up question and answer sessions.

DATES: The meeting will be held June 16, 2003, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us.

SUPPLEMENTARY INFORMATION: Agenda items to be covered include: (1) Status of replacement member applicants; (2) Presentation of nine Forest Service, and two related (non-Forest Service) project submittals by project proponents, with follow-up question and answer sessions. Time allocated for each presentation and question/answer session is 15 minutes; and, (3) Public comment on meeting proceedings. This meeting is open to the public.

Dated: May 21, 2003.
Tom Quinn,
Forest Supervisor.

[FR Doc. 03-14088 Filed 6-4-03; 8:45 am]

BILLING CODE 3410-ED-M